DEPARTMENT OF COMMERCE

National Oceanic and Atmospheric Administration

[I.D. 091603D]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Joint Mid-Atlantic Council-New England Council Spiny Dogfish Committee, Research Set-Aside Committee, Demersal Committee, Tilefish Committee, and Executive Committee will hold public meetings.

DATES: The meetings will be held on Tuesday, October 7, through Thursday, October 9, 2003. See SUPPLEMENTARY INFORMATION for specific dates and times.

ADDRESSES: The meetings will be held at the Outer Banks Resort & Conference Center/Ramada Inn, 1701 Virginia Dare Trail, Kill Devil Hills, NC; telephone: 252-441-1830.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: On Tuesday, October 7, the Joint (Mid-Atlantic Council-New England Council) Spiny Dogfish Committee will meet from 10 a.m. to 3 p.m. The Research Set-Aside (RSA) Committee will meet concurrently from noon until 3 p.m. Council will meet from 3 p.m. to 5:30 p.m. There will be a NMFS Public Hearing on annual landing limits for blue and white marlin from 7 p.m. to 9 p.m. On Wednesday, October 8, the Council will meet from 8 a.m. to 5 p.m. The Council will review and approve the Draft Environmental Impact Statement (DEIS) for Amendment 2 to the Monkfish Fishery Management Plan (FMP); review and comment on the NMFS' Northeast Regional Office's Draft Regional Bycatch Implementation Plan; and, review and comment on the New England Fishery Management Council's (NEFMC) Groundfish Amendment 13 proposals regarding Essential Fishery Habitat (EFH) closures and effort management measures. The Council, together with the Atlantic States Marine Fisheries Commission's (ASMFC) Summer Flounder, Scup, and Black Sea Bass Board, will meet from 1 p.m. to 5 p.m. to determine and prioritize management actions for summer flounder, scup and black sea bass. On Thursday, October 9, the Tilefish Committee will meet from 8 a.m. to 9 a.m. The Executive Committee will meet from 9 a.m. to 10 a.m. The Council will meet from 10 a.m. until 4 p.m.

Agenda items for the Council's committees and the Council itself are: The Joint Spiny Dogfish Committee will review the Spiny Dogfish Monitoring Committee's recommendations regarding 2004/05 fishing year quota and associated management measures; develop and adopt recommended quota and management measures for 2004/05 fishing year. The RSA Committee will review, discuss and establish RSA priorities for 2005; review, discuss and establish project selection criteria for the 2005 RSA solicitation. The Council will convene its first meeting session with the swearing-in of new and re-appointed Council members, and by conducting an election of its officers. The Council will then review the Joint Spiny Dogfish Committee's recommendations regarding the 2004/05 fishing year quota and associated management measures; develop and adopt recommended quota and management measures for 2004/05; review and approve the Draft Supplemental Environmental Impact Statement (DSEIS) Public Hearing document for Amendment 2 to the Monkfish FMP; discuss and comment on NMFS' Northeast Regional Office's Draft Regional Bycatch Implementation Plan regarding how to address state waters fisheries, how to address recreational fisheries, and how to create incentives to encourage harvesters to address National Standard 9; review, discuss and comment on the NEFMC's EFH proposed closures in MAFMC jurisdiction, and review, discuss and comment on effects of its proposed changes to Days-At-Sea (DAS) and general category permits contained in its Groundfish Amendment 13 options. The Council, acting on behalf of the Demersal Committee, together with the ASMFC's Summer Flounder, Scup and Black Sea Bass Board, will determine the management actions to be included in Amendment 14 and/or Framework 5 for summer flounder, scup and black sea bass; develop priorities for action items not included in Amendment 14 and/or Framework 5. The Tilefish Committee will review the most recent court order regarding the FMP's permit system and develop a plan of action to address same. The Executive Committee will review committee structure and committee assignment preferences for the new Council year; review the 2004 annual work plan. The Council will also receive and hear committee and organizational reports, and act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

The meetings are physically accessible to people with disabilities. Requests for sign language interpretation or other auxiliary aids should be directed to Joanna Davis at the Council at least 5 days prior to the meeting date.

Dated: September 16, 2003.
Richard W. Surdi,
Acting Director, Office of Sustainable Fisheries, National Marine Fisheries Service.

[FR Doc. 03-24114 Filed 9-18-03; 12:01 pm]

BILLING CODE 3510-22-S